DEPARTMENT OF ENERGY

Federal Energy Regulatory Commission

[Docket No. RM01-5-000]

Electronic Tariff Filings; Notice of Changes to eTariff Validation Error Codes

(March 27, 2025)

Take notice that effective April 28, 2025, the following changes will be made to the eTariff Validation Error Codes. The change to validation error code 170 regarding OLE objects was previewed in the March 7, 2025 Notice.¹ Validation Error Code 190 is being added to detect and reject tariff records that contain track change markings.

¹ Notice Regarding Inclusion of OLE Objects in Tariff Records and use of ALJ Settlement Codes, Docket No. RM01-5-000 (Mar. 7, 2025), 90 FR 11964 (Mar. 13, 2025).

Error code | Description
170 | If a record binary data is provided then the file should not have any embedded OLE objects.
190 | Tariff record file cannot contain track changes.

For more information, contact Michael.Goldenberg@ferc.gov, James.Sarikas@ferc.gov, or the eTariff Advisory Staff at 202-502-6501 or at etariffresponse@ferc.gov.

Dated: March 27, 2025.
Debbie-Anne A. Reese,
Secretary.

[FR Doc. 2025-05706 Filed 4-2-25; 8:45 am]

BILLING CODE 6717-01-P